Presidential Determination No. 2006-10 of February 7, 2006

Determination to Authorize a Drawdown for Afghanistan

Memorandum for the Secretary of State [and] the Secretary of Defense

Pursuant to the authority vested in me by the Constitution and laws of the United States, including section 202 and other relevant provisions of the Afghanistan Freedom Support Act (Public Law 107-327, as amended) and section 506 of the Foreign Assistance Act of 1961, as amended, 22 U.S.C. 2318, I herby direct the drawdown of up to $16.998 million of defense articles, defense services, and military education and training from the Department of Defense for the Government of Afghanistan. This determination also amends PD 2005-19, signed January 27, 2005, by substituting “$71.502” therein for “$88.5”.

The Secretary of State is authorized and directed to report this determination to the Congress and to arrange for its publication in the Federal Register.

B

THE WHITE HOUSE,

Washington, February 7, 2006.

[FR Doc. 06-2129

Filed 3-3-06; 8:45 am]

Billing code 4710-10-P